DEPARTMENT OF DEFENSE

Office of the Secretary

[Transmittal No. 18-0E]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(C) arms sales notification is published to fulfill the requirements of section 155 of Public Law 104-164 dated July 21, 1996. The following is a copy of a letter to the Speaker of the House of Representatives, Transmittal 18-0E.

Dated: September 17, 2018.
Shelly E. Finke,
Alternate OSD Federal Register Liaison Officer, Department of Defense.

BILLING CODE 5001-06-P

BILLING CODE 5001-06-C

Transmittal No. 18-0E

REPORT OF ENHANCEMENT OR UPGRADE OF SENSITIVITY OF TECHNOLOGY OR CAPABILITY (SEC. 36(B)(5)(C)), (AECA)

(i) Purchaser: Government of the Netherlands

(ii) Sec. 36(b)(1), AECA Transmittal No.: 15-06 and 0Z-16

Date: March 19, 2015 and January 24, 2017

Military Department: Army

(iii) Description: On March 19, 2015, Congress was notified, by Congressional certification transmittal number 15-06, of the possible sale under Section 36(b)(1) of the Arms Export Control Act of 17 CH-47F Cargo Helicopters with customer unique post-modifications, 46 T55-GA-714A Aircraft Turbine Engines with Hydro-Mechanical Assembly (34 installed and 12 spares), 41 Embedded Global Positioning System/Inertial Navigation Systems (EGIs), 54 AN/ARC-231 Ultra High Frequency/Very High Frequency Radios, 21 AN/ARC-220 High Frequency Radios, 21 AN/APX-123A Identification Friend or Foe Transponders, and 41 AN/ARC-201D Very High Frequency Radios. This sale also included spare and repair parts, support equipment, tools and test equipment, aircraft ferry and refueling support, personnel training and training equipment, publications and technical documentation, U.S. government and contractor technical, and logistics support services, and other related elements of logistics and program support. Total estimated program cost was $1.05 billion.

Subsequently, on January 24, 2017, Congress was notified pursuant to the reporting requirements of Section 36(b)(5)(A) of AECA, as amended, by Congressional certification transmittal number 0Z-16, of the possible sale of 16 AN/AAR-57A(V)8 Common Missile Warning Systems (CMWS) as Major Defense Equipment (MDE), valued at $17.2 million. Also included in this sale were Blue Force Tracker—Aviation (BFT-A), KIV-77 Common Crypto Applique for Identification Friend or Foe (IFF), and AN/PYQ-10 Simple Key Loaders (SKL).

This transmittal notifies the upgrade of the previously notified equipment associated with the CH-47F Chinook helicopters, specifically with seven (7) additional AN/AAR-57A(V)8 Common Missile Warning Systems (CMWS), as well as eight (8) AN/ALQ-212 Advance Threat Infrared Countermeasures (ATIRCM), seven (7) APR-39C(V)1 Radar Signal Detecting Sets, and fourteen (14) CN-1689-(H-764GU) Embedded Global Positioning System/Inertial Navigation (EGI) Systems. All four of these systems are MDE. Also included in this possible sale are associated equipment, support, and services. The addition of these systems will result in an increase in MDE cost of $425 million. The total case value will increase to $1.21 billion.

(iv) Significance: The Netherlands has a long history of supporting the United States in an expeditionary role. The RNLAF have deployed worldwide during several conflicts in recent history: The Balkans Stabilization Forces (SFOR and KFOR), Stabilization Force in Iraq (SFIR), Afghanistan (ISAF), and the United Nations Multidimensional Integrated Stabilization Mission in Mali (MINUSMA). During these deployments, the Dutch have proven to be a respected coalition partner to both the U.S. and NATO forces.

(v) Justification: This proposed sale will support the foreign policy and national security objectives of the United States by helping to improve the security of the Netherlands which is an important force for political stability and economic progress in Europe. It is vital to the U.S. national interests to assist the Netherlands to develop and maintain a strong and ready self-defense capability.

(vi) Sensitivity of Technology:

The AN/AAR-57A(V)8 CMWS is the detection component of the suite of countermeasures designed to increase survivability of current generation combat aircraft and specialized special operations aircraft against the threat posed by infrared guided missiles. The releasability is determined on a case by case basis. CMWS hardware is UNCLASSIFIED; when software is loaded, it is classified SECRET.

The AN/ALQ-212 Advanced Threat Infrared Countermeasures (ATIRCM) provides reliable, reusable jamming to defeat advanced infrared missile threats. It also provides passive warning of the missile's approach using CMWS which detects the missile, rejects the false alarm, and cues the onboard infrared jamming system's jam head to the missile's location. When the jam head finds the missile with its infrared tracking system, it emits a high-energy infrared beam to defeat the missile's infrared seeker. It adds protection above flare-only solutions, tracks, multiple targets, defeats threats early and quickly, and has a modular, open system architecture. It also has advance multi-band laser technology. ATIRCM is classified SECRET.

The APR-39C(V)1 Radar Signal Detecting (RSD) Set provides situational awareness to the aircrew when the system Identified pulsed radio frequency signals from a potential radar aided threat weapon system. The RSD receives, processes and displays potential threats in the radio frequency environment and provides relative bearing and threat type to aircrew via audio and visual cueing. The APR-39 hardware is UNCLASSIFIED; when software is loaded, it is classified CONFIDENTIAL.

The CN-1689-(H-764GU) EGI system is a Selective Availability Anti-Spoofing Module (SAASM) based navigation platform that combines an inertial sensor assembly with a fixed reception pattern antenna GPS receiver. The EGI system is the primary source for position information and is UNCLASSIFIED. The GPS crypto variables needed for the highest GPS accuracy are classified up to SECRET.

(vii) Date Report Delivered to Congress: August 8, 2018

[FR Doc. 2018-20517 Filed 9-20-18; 8:45 am]

BILLING CODE 5001-06-P